ENVIRONMENTAL PROTECTION AGENCY

[FRL-8778-9]

National Advisory Council for Environmental Policy and Technology

AGENCY: Environmental Protection Agency (EPA).

ACTION: Notice of meeting.

SUMMARY: Under the Federal Advisory Committee Act, Public Law 92463, EPA gives notice of a meeting of the National Advisory Council for Environmental Policy and Technology (NACEPT). NACEPT provides advice to the EPA Administrator on a broad range of environmental policy, technology, and management issues. NACEPT is a committee of individuals who represent diverse interests from academia, industry, non-governmental organizations, and local, state, and tribal governments. To mark NACEPT's 20th anniversary and its achievements over the last two decades, a project was initiated to: (1) Identify the issues and challenges that EPA will face and should focus on over the next 10 years; (2) Review NACEPT's operations and accomplishments; and (3) Develop a strategic framework for how NACEPT can best serve EPA based on the prospective and retrospective findings. The purpose of the meeting is to discuss the prospective and retrospective reports, and to develop a strategic framework for the Council. A copy of the agenda for the meeting will be posted at http://www.epa.gov/ocem/nacept/cal-nacept.htm.

DATES: NACEPT will hold a two-day meeting on Wednesday, March 25, 2009, from 9 a.m. to 5 p.m. and Thursday, March 26, 2009, from 9 a.m. to 2 p.m.

ADDRESSES: The meeting will be held at the Gaylord National Resort and Convention Center, 201 Waterfront Street, National Harbor, MD 20745. The meeting is open to the public, with limited seating on a first-come, first-served basis.

FOR FURTHER INFORMATION CONTACT: Sonia Altieri, Designated Federal Officer, altieri.sonia@epa.gov, (202) 564-0243, U.S. EPA, Office of Cooperative Environmental Management (1601M), 1200 Pennsylvania Avenue, NW., Washington, DC 20460.

SUPPLEMENTARY INFORMATION: Requests to make oral comments or to provide written comments to the Council should be sent to Sonia Altieri, Designated Federal Officer, at the contact information above. All requests must be submitted no later than March 18, 2009.

Meeting Access: For information on access or services for individuals with disabilities, please contact Sonia Altieri at 202-564-0243 or altieri.sonia@epa.gov. To request accommodation of a disability, please contact Sonia Altieri, preferably at least 10 days prior to the meeting, to give EPA as much time as possible to process your request.

Dated: March 2, 2009.
Sonia Altieri,
Designated Federal Officer.

[FR Doc. E9-4884 Filed 3-6-09; 8:45 am]

BILLING CODE 6560-50-P